DEPARTMENT OF THE INTERIOR

Fish and Wildlife Service

[Docket No. FWS-HQ-IA-2024-0163; FXIA16710900000-245-FF09A30000]

Emergency Exemption: Issuance of Emergency Permits To Import Endangered Species

AGENCY: Fish and Wildlife Service, Interior.

ACTION: Notice of issuance of permits.

SUMMARY: We, the U.S. Fish and Wildlife Service, have waived the 30-day public notice period and have issued two endangered species permits for import of three jaguars (Panthera onca) and three tigers (Panthera tigris). We issue these permits under the Endangered Species Act.

ADDRESSES: Materials pertaining to the permit application are available by submitting a Freedom of Information Act (FOIA) request to the Service's FOIA office at https://www.doi.gov/foia/foia-request-form.

FOR FURTHER INFORMATION CONTACT: Brenda Tapia, by phone at 703-358-2104 or via email at DMAFR@fws.gov. Individuals in the United States who are deaf, blind, hard of hearing, or have a speech disability may dial 711 (TTY, TDD, or TeleBraille) to access telecommunications relay services. Individuals outside the United States should use the relay services offered within their country to make international calls to the point-of-contact in the United States.

SUPPLEMENTARY INFORMATION: We, the U.S. Fish and Wildlife Service (Service), have issued two emergency permits to conduct certain activities with jaguar (Panthera onca) and tiger (Panthera tigris) in response to two permit applications that we received under the authority of section 10(a)(1)(A) of the Endangered Species Act of 1973 (ESA; 16 U.S.C. 1531 et seq.).

We issued the requested permits subject to certain conditions set forth in the permit. For the applications, we found that (1) the applications were filed in good faith, (2) the granted permits would not operate to the disadvantage of the endangered species, and (3) the granted permits would be consistent with the purposes and policy set forth in section 2 of the ESA.

Permits Issued Under Emergency Exemption
Permit number | Applicant | Permit issuance date
PER12739118 | The Wild Animal Sanctuary | October 9, 2024.
PER12746542 | The Wild Animal Sanctuary | October 9, 2024.

The Wild Animal Sanctuary requested two permits to import three live jaguars and three live tigers from Lebanon and Mexico, respectively, due to political instability and the threat of warfare in the former, and due to severe financial difficulty for the partner organization in the latter. After assessing the level of crisis facing the respective partner organizations in Lebanon and Mexico, the Service determined that an emergency affecting the lives of these animals existed, and that no reasonable alternative was available to the applicant.

On October 9, 2024, the Service issued permits PER12739118 and PER12746542 to The Wild Animal Sanctuary, to import three jaguars and three tigers for the purpose of enhancement of the survival of the species. The animals will be transferred to the Wild Animal Sanctuary where they are anticipated to remain for the entirety of their lifetimes.

Authority

We issue this notice under the authority of the Endangered Species Act of 1973, as amended (ESA; 16 U.S.C. 1531 et seq.), and its implementing regulations.

Brenda Tapia,
Supervisory Program Analyst/Data Administrator, Branch of Permits, Division of Management Authority.

[FR Doc. 2024-28078 Filed 11-27-24; 8:45 am]

BILLING CODE 4333-15-P